NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission: Revision.

2. The title of the information collection: “10 CFR Part 35, Medical Use of Byproduct Material—Recognition of Specialty Boards, Proposed Rule and Burden Revision to NRC Form 313A, Training and Experience and Preceptor Statement.”

3. The form number if applicable: NRC Form 313A.

4. How often the collection is required: Part 35—one-time only; NRC Form 313A—upon application or amendment to a license.

5. Who will be required or asked to report: Specialty boards requesting the NRC to recognize their certification processes or recognized boards responding to NRC requests for information when being considered for delisting and materials licensees permitting board-certified individuals to work as radiation safety officers, authorized medical physicists, authorized nuclear pharmacists, or authorized users.

6. An estimate of the number of responses: 857.

7. The estimated number of annual respondents: 857.

8. An estimate of the total number of hours needed annually to complete the requirement or request:

10 CFR Part 35—341 reporting hours (0.4 hours per response); NRC Form 313A—889 recordkeeping hours (1.0 hours per individual).

9. An indication of whether Section 3507(d), Pub. L. 104-13 applies: Applicable.

10. Abstract: The Nuclear Regulatory Commission (NRC) is proposing to amend its regulations governing the medical use of byproduct material to change its requirements for recognition of specialty boards whose certifications may be used to demonstrate the adequacy of the training and experience of individuals to serve as radiation safety officers, authorized medical physicists, authorized nuclear pharmacists or authorized users. The proposed rule would also revise the requirements for demonstrating the adequacy of training and experience for pathways other than the board certification pathway. This rulemaking is necessary to address the training and experience issue for recognition of specialty board certifications.

Submit, by January 2, 2004, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal may be viewed free of charge at the NRC Public Document Room, One White Flint North, 11555 Rockville Pike, Room O1 F23, Rockville, MD 20852. The proposed rule indicated in “The title of the information collection” is or has been published in the Federal Register within several days of the publication date of this Federal Register Notice. The OMB clearance package and rule are available at the NRC's worldwide web site: http://www.nrc.gov/public-involve/doc-comment/omb/index.html for 60 days after the signature date of this notice and are also available at the rule forum site, http://ruleforum.llnl.gov. Comments and questions should be directed to the OMB reviewer by January 2, 2004: OMB Desk Officer, Office of Information and Regulatory Affairs (3150-0010 and 3150-0120), NEOB-10202, Office of Management and Budget, Washington DC 20503.

Comments can also be submitted by telephone at (202) 395-3087.

The NRC Clearance Officer is Brenda Jo. Shelton, (301) 415-7233.

Dated at Rockville, Maryland, this 25th day of November 2003.
For the Nuclear Regulatory Commission.
Brenda Jo. Shelton,
NRC Clearance Officer, Office of the Chief Information Officer.

[FR Doc. 03-29899 Filed 12-1-03; 8:45 am]

BILLING CODE 7590-01-P